DEPARTMENT OF HOMELAND SECURITY

Federal Emergency Management Agency

44 CFR Part 64

[Docket ID FEMA-2012-0003; Internal Agency Docket No. FEMA-8225]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue their eligibility for the sale of insurance. A notice withdrawing the suspension of the communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region II
New York:
Barton, Town of, Tioga County | 360832 | September 2, 1975, Emerg; June 15, 1982, Reg; April 17, 2012, Susp. | April 17, 2012 | April 17, 2012
Berkshire, Town of, Tioga County | 361215 | August 8, 1977, Emerg; May 15, 1985, Reg; April 17, 2012, Susp. | ......do | Do.
Candor, Town of, Tioga County | 360833 | July 30, 1976, Emerg; August 19, 1986, Reg; April 17, 2012, Susp. | ......do | Do.
Candor, Village of, Tioga County | 360834 | July 21, 1975, Emerg; October 1, 1991, Reg; April 17, 2012, Susp. | ......do | Do.
Newark Valley, Town of, Tioga County | 360835 | June 25, 1973, Emerg; February 3, 1982, Reg; April 17, 2012, Susp. | ......do | Do.
Newark Valley, Village of, Tioga County | 360836 | September 2, 1976, Emerg; February 3, 1982, Reg; April 17, 2012, Susp. | ......do | Do.
Nichols, Town of, Tioga County | 360837 | August 6, 1975, Emerg; February 17, 1982, Reg; April 17, 2012, Susp. | ......do | Do.
Nichols, Village of, Tioga County | 360838 | September 2, 1976, Emerg; September 29, 1986, Reg; April 17, 2012, Susp. | ......do | Do.
Owego, Town of, Tioga County | 360839 | December 29, 1972, Emerg; June 15, 1977, Reg; April 17, 2012, Susp. | ......do | Do.
Owego, Village of, Tioga County | 360840 | December 22, 1972, Emerg; May 16, 1977, Reg; April 17, 2012, Susp. | ......do | Do.
Richford, Town of, Tioga County | 361216 | August 10, 1976, Emerg; May 15, 1985, Reg; April 17, 2012, Susp. | ......do | Do.
Spencer, Town of, Tioga County | 360841 | October 16, 1975, Emerg; May 15, 1985, Reg; April 17, 2012, Susp. | ......do | Do.
Spencer, Village of, Tioga County | 361471 | December 16, 1976, Emerg; May 15, 1985, Reg; April 17, 2012, Susp. | ......do | Do.
Tioga, Town of, Tioga County | 360842 | August 15, 1975, Emerg; May 17, 1982, Reg; April 17, 2012, Susp. | ......do | Do.
Waverly, Village of, Tioga County | 361343 | June 27, 1974, Emerg; March 16, 1983, Reg; April 17, 2012, Susp. | ......do | Do.
Region IV
Georgia:
East Ellijay, City of, Gilmer County | 130089 | July 3, 1975, Emerg; November 3, 1999, Reg; April 17, 2012, Susp. | ......do | Do.
Ellijay, City of, Gilmer County | 130090 | April 22, 1975, Emerg; August 15, 1990, Reg; April 17, 2012, Susp. | ......do | Do.
Gilmer County, Unincorporated Areas | 130317 | October 29, 1982, Emerg; August 15, 1990, Reg; April 17, 2012, Susp. | ......do | Do.
Tennessee:
Gallatin, City of, Sumner County | 470185 | May 27, 1975, Emerg; August 3, 1981, Reg; April 17, 2012, Susp. | ......do | Do.
Goodlettsville, City of, Sumner County | 470287 | April 21, 1975, Emerg; June 15, 1981, Reg; April 17, 2012, Susp. | ......do | Do.
Hendersonville, City of, Sumner County | 470186 | May 28, 1974, Emerg; November 4, 1981, Reg; April 17, 2012, Susp. | ......do | Do.
Millersville, City of, Sumner County | 470388 | August 30, 1982, Emerg; June 15, 1984, Reg; April 17, 2012, Susp. | ......do | Do.
Portland, City of, Sumner County | 470187 | February 14, 1975, Emerg; August 4, 1987, Reg; April 17, 2012, Susp. | ......do | Do.
Sumner County, Unincorporated Areas | 470349 | August 5, 1975, Emerg; June 19, 1985, Reg; April 17, 2012, Susp. | ......do | Do.
Westmoreland, Town of, Sumner County | 470415 | N/A, Emerg; May 19, 2005, Reg; April 17, 2012, Susp. | ......do | Do.
White House, City of, Sumner County | 470339 | May 13, 1975, Emerg; June 1, 1988, Reg; April 17, 2012, Susp. | ......do | Do.
Region V
Michigan:
Grayling, City of, Crawford County | 260901 | May 21, 1992, Emerg; June 25, 1992, Reg; April 17, 2012, Susp. | ......do | Do.
South Branch, Township of, Crawford County | 261021 | May 6, 1998, Emerg; N/A, Reg; April 17, 2012, Susp. | ......do | Do.
Minnesota:
Barnesville, City of, Clay County | 270078 | May 2, 1974, Emerg; March 2, 1981, Reg; April 17, 2012, Susp. | ......do | Do.
Center City, City of, Chisago County | 270685 | September 5, 1975, Emerg; January 28, 1983, Reg; April 17, 2012, Susp. | ......do | Do.
Chisago, City of, Chisago County | 270707 | June 28, 1982, Emerg; January 7, 1983, Reg; April 17, 2012, Susp. | ......do | Do.
Chisago County, Unincorporated Areas | 270682 | September 4, 1975, Emerg; April 18, 1983, Reg; April 17, 2012, Susp. | ......do | Do.
Clay County, Unincorporated Areas | 275235 | August 7, 1970, Emerg; May 5, 1972, Reg; April 17, 2012, Susp. | ......do | Do.
Dilworth, City of, Clay County | 270080 | March 20, 1974, Emerg; May 19, 1981, Reg; April 17, 2012, Susp. | ......do | Do.
Georgetown, City of, Clay County | 270082 | March 20, 1975, Emerg; July 18, 1983, Reg; April 17, 2012, Susp. | ......do | Do.
Glyndon, City of, Clay County | 270083 | September 26, 1975, Emerg; March 2, 1981, Reg; April 17, 2012, Susp. | ......do | Do.
Hawley, City of, Clay County | 270084 | April 22, 1974, Emerg; March 16, 1981, Reg; April 17, 2012, Susp. | ......do | Do.
Lindstrom, City of, Chisago County | 270683 | September 4, 1975, Emerg; January 7, 1983, Reg; April 17, 2012, Susp. | ......do | Do.
Moorhead, City of, Clay County | 275244 | March 19, 1971, Emerg; February 18, 1972, Reg; April 17, 2012, Susp. | ......do | Do.
North Branch, City of, Chisago County | 270072 | September 15, 1987, Emerg; May 19, 1997, Reg; April 17, 2012, Susp. | ......do | Do.
Stacy, City of, Chisago County | 270074 | October 8, 1975, Emerg; July 6, 1984, Reg; April 17, 2012, Susp. | ......do | Do.
Wyoming, City of, Chisago County | 270076 | N/A, Emerg; August 30, 2010, Reg; April 17, 2012, Susp. | ......do | Do.
Region VI
Arkansas:
Russellville, City of, Pope County | 050178 | July 17, 1970, Emerg; July 18, 1970, Reg; April 17, 2012, Susp. | ......do | Do.
Oklahoma:
Bixby, City of, Wagoner County | 400207 | March 6, 1974, Emerg; September 28, 1979, Reg; April 17, 2012, Susp. | ......do | Do.
Broken Arrow, City of, Wagoner County | 400236 | November 27, 1974, Emerg; August 17, 1981, Reg; April 17, 2012, Susp. | ......do | Do.
Catoosa, City of, Wagoner County | 400185 | January 8, 1976, Emerg; August 1, 1980, Reg; April 17, 2012, Susp. | ......do | Do.
Coweta, City of, Wagoner County | 400216 | March 21, 1978, Emerg; September 18, 1986, Reg; April 17, 2012, Susp. | ......do | Do.
Okay, Town of, Wagoner County | 400217 | July 8, 1977, Emerg; September 28, 1982, Reg; April 17, 2012, Susp. | ......do | Do.
Porter, Town of, Wagoner County | 400434 | September 28, 1977, Emerg; January 26, 1983, Reg; April 17, 2012, Susp. | ......do | Do.
Red Bird, Town of, Wagoner County | 400321 | October 21, 1976, Emerg; October 9, 1979, Reg; April 17, 2012, Susp. | ......do | Do.
Tulsa, City of, Wagoner County | 405381 | November 20, 1970, Emerg; August 13, 1971, Reg; April 17, 2012, Susp. | ......do | Do.
Wagoner, City of, Wagoner County | 400219 | January 14, 1976, Emerg; October 19, 1982, Reg; April 17, 2012, Susp. | ......do | Do.
Wagoner County, Unincorporated Areas | 400215 | July 15, 1981, Emerg; December 2, 1988, Reg; April 17, 2012, Susp. | ......do | Do.
Texas:
Emory, Town of, Rains County | 480977 | September 13, 2002, Emerg; N/A, Reg; April 17, 2012, Susp. | ......do | Do.
Point, City of, Rains County | 481156 | September 21, 1981, Emerg; April 17, 1985, Reg; April 17, 2012, Susp. | ......do | Do.
Rains County, Unincorporated Areas | 480975 | January 15, 2003, Emerg; N/A, Reg; April 17, 2012, Susp. | ......do | Do.
Region VIII
South Dakota:
Deadwood, City of, Lawrence County | 460045 | November 26, 1974, Emerg; February 3, 1982, Reg; April 17, 2012, Susp. | ......do | Do.
Lawrence County, Unincorporated Areas | 460094 | April 30, 1974, Emerg; May 17, 1990, Reg; April 17, 2012, Susp. | ......do | Do.
Lead, City of, Lawrence County | 460190 | September 20, 1999, Emerg; N/A, Reg; April 17, 2012, Susp. | ......do | Do.
Spearfish, City of, Lawrence County | 460046 | October 30, 1974, Emerg; September 2, 1981, Reg; April 17, 2012, Susp. | ......do | Do.
*......do =Ditto.
Code for reading third column: Emerg.—Emergency; Reg.—Regular; Susp.—Suspension.

Dated: March 27, 2012.
David L. Miller,
Associate Administrator, Federal Insurance and Mitigation Administration, Department of Homeland Security, Federal Emergency Management Agency.

[FR Doc. 2012-8391 Filed 4-6-12; 8:45 am]

BILLING CODE 9110-12-P